DEPARTMENT OF THE INTERIOR

National Park Service

[NPS-WASONRSS-15011; PPWOVPADW0, PPMPRLE1Y.LB0000]

Information Collection Request Sent to the Office of Management and Budget (OMB) for Approval; Research Permit and Reporting System Applications and Reports

AGENCY: National Park Service, Interior.

ACTION: Notice; request for comments.

SUMMARY: We (National Park Service) have sent an Information Collection Request (ICR) to OMB for review and approval. We summarize the ICR below and describe the nature of the collection and the estimated burden and cost. This information collection is scheduled to expire on February 28, 2014. We may not conduct or sponsor and a person is not required to respond to a collection of information unless it displays a currently valid OMB control number. However, under OMB regulations, we may continue to conduct or sponsor this information collection while it is pending at OMB.

DATES: You must submit comments on or before March 31, 2014.

ADDRESSES: Send your comments and suggestions on this information collection to the Desk Officer for the Department of the Interior at OMB—OIRA at (202) 395-5806 (fax) or OIRA_Submission@omb.eop.gov (email). Please provide a copy of your comments to Madonna L. Baucum, Information Collection Clearance Officer, National Park Service, 1849 C Street NW. (2601), Washington, DC 20240 (mail); or madonna_baucum@nps.gov (email). Please include “1024-0236” in the subject line of your comments.

FOR FURTHER INFORMATION CONTACT: To request additional information about this ICR, contact Bill Commins at bill_commins@nps.gov (email) or at 202-513-7166 (telephone). You may review the ICR online at http://www.reginfo.gov. Follow the instructions to review Department of the Interior collections under review by OMB.

SUPPLEMENTARY INFORMATION:

OMB Control Number: 1024-0236.

Title: Research Permit and Reporting System Applications and Reports, 36 CFR 2.1 and 2.5.

Service Form Number(s): 10-226, 10-741a, and 10-741b.

Type of Request: Extension of a currently approved collection.

Description of Respondents: Individuals; businesses; academic and research institutions; and Federal, State, local, and tribal governments.

Respondent's Obligation: Required to obtain or retain a benefit.

Frequency of Collection: On occasion for applications; annually for reports.

Activity | Number of respondents | Number of annual responses | Completion time per response | Total annual burden hours
Investigator's Annual Report (Form 10-226) | 5,395 | 5,395 | 15 minutes | 1,349
Application for a Scientific Research and Collecting Permit (Form 10-741a) | 4,980 | 4,980 | 1.38 hours | 6,872
Application for a Science Education Permit (Form 10-741b) | 415 | 415 | 1 hour | 415
TOTALS | 10,790 | 10,790 |  | 8,636

Abstract: Regulations at 36 CFR 2.1 and 2.5 provide for taking of scientific research specimens in parks. We use a permit system to manage scientific research and collecting. National Park Service Forms 10-741a (Application for a Scientific Research and Collecting Permit) and 10-741b (Application for a Science Education Permit) collect information from persons seeking a permit to conduct natural or social science research and collection activities in individual units of the National Park System. The information we collect includes, but is not limited to:

• Names and business contact information.

• Project title, purpose of study, summary of proposed field methods and activities, and study and field schedules.

• Location where scientific activities are proposed to take place, including method of access.

• Whether or not specimens are proposed to be collected or handled, and if yes, scientific descriptions and proposed disposition of specimens.

• If specimens are to be permanently retained, the proposed repositories for those specimens.

Persons who receive a permit must report annually on the activities conducted under the permit. Form 10-226 (Investigator's Annual Report) collects the following information:

• Reporting year, park, and type of permit.

• Names and business contact information and names of additional investigators.

• Project title, park-assigned study or activity number, park-assigned permit number, permit start and expiration dates, and scientific study start and ending dates.

• Activity type, subject discipline, purpose of study/activity during the reporting year, and finding and status of study or accomplishments of education activity during the reporting year.

We use the above information to manage the use and preservation of park resources and for reporting to the public via the Internet about the status of permitted research and collecting activities. We encourage respondents to use the Internet-based, automated Research Permit and Reporting System (RPRS) to complete and submit applications and reports. For those who use RPRS, much of the information needed for the annual report is generated automatically through information supplied in the application or contained in the permit.

Comments: On September 19, 2013, we published in the Federal Register (78 FR 57654) a notice of our intent to request that OMB renew approval for this information collection. In that notice, we solicited comments for 60 days, ending November 3, 2013. We did not receive any comments.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: February 25, 2014.
Ramie Lynch,
Acting Information Collection Clearance Officer, National Park Service.

[FR Doc. 2014-04446 Filed 2-27-14; 8:45 am]

BILLING CODE 4310-EH-P